DEPARTMENT OF HOMELAND SECURITY

Federal Emergency Management Agency

44 CFR Part 65

[Docket No. FEMA-P-7624]

Changes in Flood Elevation Determinations

AGENCY: Federal Emergency Management Agency, Emergency Preparedness and Response Directorate, Department of Homeland Security.

ACTION: Interim rule.

SUMMARY: This interim rule lists communities where modification of the Base (1-percent-annual-chance) Flood Elevations (BFEs) is appropriate because of new scientific or technical data. New flood insurance premium rates will be calculated from the modified BFEs for new buildings and their contents.

DATES: These modified BFEs are currently in effect on the dates listed in the table below and revise the Flood Insurance Rate Map(s) in effect prior to this determination for the listed communities.

From the date of the second publication of these changes in a newspaper of local circulation, any person has ninety (90) days in which to request through the community that the Mitigation Division Director of the Emergency Preparedness and Response Directorate reconsider the changes. The modified BFEs may be changed during the 90-day period.

ADDRESSES: The modified BFEs for each community are available for inspection at the office of the Chief Executive Officer of each community. The respective addresses are listed in the table below.

FOR FURTHER INFORMATION CONTACT: Mary Jean Pajak, Federal Emergency Management Agency, 500 C Street, SW., Washington, DC 20472, (202) 646-2831.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

The changes in BFEs are in accordance with 44 CFR 65.4.

National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This interim rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community number
California: Alameda (Case No. 02-09-542P) | City of Hayward | February 21, 2003, February 28, 2003, The Daily Review | The Honorable Roberta Cooper, Mayor, City of Hayward, 777 B Street, Hayward, California 94541 | February 10, 2003 | 065033
Illinois: Will (Case No. 02-05-3078P) | Village of Bolingbrook | April 10, 2003, April 17, 2003, The Bolingbrook Sun | The Honorable Roger Claar, Mayor, Village of Bolingbrook, 375 West Briarcliff Road, Bolingbrook, Illinois 60440 | July 17, 2003 | 170812
Iowa: Johnson (Case No. 02-07-356P) | City of Iowa City | April 11, 2003, April 18, 2003, Iowa City Press-Citizen | The Honorable Ernest W. Lehman, Mayor, City of Iowa City, 410 East Washington Street, Iowa City, Iowa 52240 | July 18, 2003 | 190171
Kansas: Crawford (Case No. 02-07-785P) | City of Pittsburg | February 21, 2003, February 28, 2003, The Morning Sun | The Honorable Allen Gill, Mayor, City of Pittsburg, 201 West 4th Street, Pittsburg, Kansas 66762 | February 10, 2003 | 200072
Michigan: Macomb (Case No. 02-05-1637P) | Township of Macomb | March 20, 2003, March 27, 2003, The Macomb Daily | Mr. John D. Brennan, Township Supervisor, 54111 Broughton Road, Macomb, Michigan 48042 | June 26, 2003 | 260445
Ohio: Montgomery (Case No. 02-05-3230P) | City of Vandalia | March 5, 2003, March 12, 2003, Dayton Daily News | The Honorable Bill Loy, Mayor, City of Vandalia, 333 James Bohanon Drive, Vandalia, Ohio 45377 | February 21, 2003 | 390418
Oklahoma: Oklahoma, Canadian, Cleveland, McClain, Pottawatomie (Case No. 03-06-693P) | City of Oklahoma City | March 20, 2003, March 27, 2003, The Daily Oklahoman | The Honorable Kirk Humphreys, Mayor, City of Oklahoma City, 200 North Walker, 3rd Floor, Oklahoma City, Oklahoma 73102 | February 25, 2003 | 405378
Oklahoma: Oklahoma, Canadian, Cleveland, McClain, Pottawatomie (Case No. 03-06-696P) | City of Oklahoma City | March 20, 2003, March 27, 2003, The Daily Oklahoman | The Honorable Kirk Humphreys, Mayor, City of Oklahoma City, 200 North Walker, 3rd Floor, Oklahoma City, Oklahoma 73102 | February 26, 2003 | 405378
Texas: Collin (Case No. 03-06-436P) | City of Allen | April 3, 2003, April 10, 2003, The Allen American | The Honorable Steve Terrell, Mayor, City of Allen, One Allen Civic Plaza, Allen, Texas 75013 | March 19, 2003 | 480131
Texas: Dallas (Case No. 02-06-1259P) | City of Dallas | April 3, 2003, April 10, 2003, Dallas Morning News | The Honorable Laura Miller, Mayor, City of Dallas, 1500 Marilla Street, City Hall, Dallas, Texas 75201 | March 13, 2003 | 480171
Texas: Dallas (Case No. 02-06-2308P) | City of Farmers Branch | February 21, 2003, February 28, 2003, Northwest Morning News | The Honorable Bob Phelps, Mayor, City of Farmers Branch, P.O. Box 819010, Farmers Branch, Texas 75234 | February 7, 2003 | 480174
Texas: Dallas (Case No. 02-06-1259P) | City of Garland | April 3, 2003, April 10, 2003, Garland Morning News | The Honorable Bob Day, Mayor, City of Garland, P.O. Box 469002, Garland, Texas 75046 | March 13, 2003 | 485471
Texas: Tarrant (Case No. 02-06-2049P) | City of Hurst | February 21, 2003, February 28, 2003, The Star Telegram | The Honorable William D. Souder, Mayor, City of Hurst, 1505 Precinct Line Road, Hurst, Texas 76054 | January 31, 2003 | 480601
Texas: Williamson (Case No. 02-06-938P) | City of Leander | April 16, 2003, April 23, 2003, Hill Country News | The Honorable Larry Barnett, Mayor, City of Leander, P.O. Box 319, Leander, TX 78646 | March 13, 2003 | 481536
Texas: Dallas (Case No. 02-06-1259P) | City of Mesquite | April 3, 2003, April 10, 2003, Mesquite Morning News | The Honorable Mike Anderson, Mayor, City of Mesquite, P.O. Box 850137, Mesquite, Texas 75185 | March 13, 2003 | 485490
Texas: Bexar (Case No. 02-06-1684P) | City of Selma | April 17, 2003, April 24, 2003, The Herald | The Honorable Jim Parma, Mayor, City of Selma, 9375 Corporate Drive, Selma, Texas 78154 | March 21, 2003 | 480046
Texas: Bexar, Comal, Guadalupe (Case No. 02-06-1684P) | City of Schertz | April 17, 2003, April 24, 2003, The Herald | The Honorable Hal Baldwin, Mayor, City of Schertz, Drawer 1, Schertz, Texas 78154 | March 21, 2003 | 480269
Texas: Bexar, Comal, Guadalupe (Case No. 02-06-432P) | City of Schertz, | February 13, 2003, February 20, 2003, The Herald | The Honorable Hal Baldwin, Mayor, City of Schertz, P.O. Box Drawer 1, Schertz, Texas 78154 | February 3, 2003 | 480269
Texas: Williamson (Case No. 02-06-938P) | Unincorporated Areas | April 16, 2003, April 23, 2003, Williamson County Sun | The Honorable John C. Doerfler, Judge, Williamson County, 710 Main Street, Georgetown, Texas 78626 | March 13, 2003 | 481079

(Catalog of Federal Domestic Assistance No. 83.100, “Flood Insurance”)

Dated: June 24, 2003.
Anthony S. Lowe,
Mitigation Division Director, Emergency Preparedness and Response Directorate.

[FR Doc. 03-16543 Filed 6-30-03; 8:45 am]

BILLING CODE 6718-04-P